DEPARTMENT OF HEALTH AND HUMAN SERVICES

National Institutes of Health

Office of the Director, National Institutes of Health; Amended Notice of Meeting

Notice is hereby given of a change in the meeting of the Director's Council of Public Representatives, April 6, 2000, 8:30 AM to April 7, 2000, 1 PM, National Institutes of Health, 9000 Rockville Pike, Building 31, Conference Room 6, Bethesda, MD, 20892 which was published in the Federal Register on March 27, 2000, 65 FR 16211.

The meeting will be held on April 6, 2000, from 8:30 AM to 4 PM and April 7, 2000, from 8:30 AM to adjournment.

The meeting is open to the public.

Dated: March 31, 2000.
LaVerne Y. Stringfield,
Director, Office of Federal Advisory Committee Policy.

[FR Doc. 00-8798 Filed 4-7-00; 8:45 am]

BILLING CODE 4140-01-M